DEPARTMENT OF HEALTH AND HUMAN SERVICES

Centers for Disease Control and Prevention

[30Day-24-1289]

Agency Forms Undergoing Paperwork Reduction Act Review

In accordance with the Paperwork Reduction Act of 1995, the Centers for Disease Control and Prevention (CDC) has submitted the information collection request titled “Sealant Efficiency Assessment for Locals and States (SEALS)” to the Office of Management and Budget (OMB) for review and approval. CDC previously published a “Proposed Data Collection Submitted for Public Comment and Recommendations” notice on June 5, 2023 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Sealant Efficiency Assessment for Locals and States (SEALS) (OMB Control No. 0920-1289)—Reinstatement—National Center for Chronic Disease Prevention and Health Promotion (NCCDPHP), Centers for Disease Control and Prevention (CDC).

Background and Brief Description

By age 19, 67% of U.S. adolescents living in poverty have experienced tooth decay and 27% have at least one decayed tooth needing treatment. School sealant programs provide dental sealants, which protect against 80% of cavities for two years, and continue to protect against 50% of cavities for up to four years. CDC requests information from states regarding children's cavity risk, one-year sealant retention rate, sealant program services delivered, and school sealant program cost and quantity of resources used at each school event. This data will allow CDC and states to monitor the performance and efficiency of their school sealant programs, which will improve and extend program delivery to more children.

CDC requests OMB approval for a Reinstatement of a previously approved data collection. The total estimated annualized burden hours requested are 1,388. There are no costs to respondents other than their time.

Estimated Annualized Burden Hours
Type of respondents | Form name | Number of respondents | Number of responses per respondent | Average burden per response (in hours)
State Sealant Administrator | Add Program and Add User | 18 | 1 | 45/60
SSP Local Administrator | Add User and Add School | 162 | 1 | 43/60
SSP Local Administrator | Program Options and Cost Options | 162 | 1 | 46/60
SSP Local Administrator | Add Event | 162 | 20 | 21/60

Jeffrey M. Zirger,
Lead, Information Collection Review Office, Office of Public Health Ethics and Regulations, Office of Science, Centers for Disease Control and Prevention.

[FR Doc. 2023-23339 Filed 10-20-23; 8:45 am]

BILLING CODE 4163-18-P